DEPARTMENT OF THE INTERIOR

Bureau of Land Management

[CO-923; COC-69155]

Notice of Proposed Withdrawal and Transfer of Jurisdiction; Colorado

AGENCY: Bureau of Land Management, Interior.

ACTION: Notice.

SUMMARY: The U.S. Department of Energy has filed an application requesting the Secretary of the Interior to withdraw from surface entry and mining and transfer jurisdiction of 160 acres of public land in Moffat County, Colorado, to be utilized as a uranium mill tailings disposal site. This notice segregates the land for a period of 2 years from surface entry and mining.

DATES: Comments and requests for a public meeting must be received January 26, 2006.

ADDRESSES: Correspondence should be addressed to the State Director, BLM Colorado State Office, 2850 Youngfield Street, Lakewood, Colorado 80215.

FOR FURTHER INFORMATION CONTACT: Doris E. Chelius, BLM Colorado State Office, 303-239-3706.

SUPPLEMENTARY INFORMATION: The U.S. Department of Energy has filed an application with the Bureau of Land Management to withdraw from surface entry and mining and transfer to them, subject to valid existing rights, the jurisdiction of the following described public land:

Sixth Principal Meridian

T. 7 N., R. 95 W.,

sec. 24, S½NW¼ and N½SW¼.

The area described contains 160 acres in Moffat County.

The purpose of the proposed withdrawal is to transfer jurisdiction of the land to the U.S. Department of Energy for perpetual administration as a hazardous material site under authority of the Uranium Mill Tailings Radiation Control Act of 1978, 42 U.S.C. 7901, et seq.

For a period of 90 days from the date of publication of this notice, all persons who wish to submit comments, suggestions, or objections in connection with the proposed action may present their views in writing to the Colorado State Director, BLM, at the above address.

Comments, including names and street addresses of respondents, and records relating to the proposed withdrawal will be available for public review at BLM Colorado State Office, during regular business hours.

Individual respondents may request confidentiality. If you wish to withhold your name or address from public review or from disclosure under the Freedom of Information Act, you must state this prominently at the beginning of your comments. Such requests will be honored to the extent allowed by law. All submissions from organizations or businesses and from representatives or officials of organizations or businesses, will be made available for public inspection in their entirety.

This application will be processed in accordance with the regulations set forth in 43 CFR 2300.

Effective on the date of publication, this land is segregated from all forms of appropriation under the public land laws, including the mining laws, and the mineral leasing laws. The segregative effect of this application will terminate 2 years from the date of this publication unless final withdrawal action is taken or the application is denied or cancelled prior to that date (43 CFR 2310.2). Notice of any action will be published in the Federal Register.

Public meetings will be held in connection with the proposed withdrawal action during the preparation of the Environmental Impact Statement that will analyze options for permanent disposal of the uranium tailings. A notice of the time and place will be published by the U.S. Department of Energy in the Federal Register at least 30 days prior to the scheduled date of the meetings.

(Authority: 43 CFR 2310.3-1)

Dated: October 7, 2005.
John D. Beck,
Acting Chief, Branch of Lands and Realty.

[FR Doc. 05-21568 Filed 10-27-05; 8:45 am]

BILLING CODE 4310-JB-P